DEPARTMENT OF ENERGY

Agency Information Collection Extension

AGENCY: Department of Energy.

ACTION: Notice of request for comments.

SUMMARY: The Department of Energy (DOE), pursuant to the Paperwork Reduction Act of 1995, intends to extend for three years an information collection request with the Office of Management and Budget (OMB).

DATES: Comments regarding this proposed information collection must be received on or before September 29, 2025. If you anticipate any difficulty in submitting comments within that period, contact the person listed in the FOR FURTHER INFORMATION CONTACT section as soon as possible.

ADDRESSES: Written comments may be sent to Adam Guzzo, Program Manager, Office of State and Community Energy Programs, at 1000 Independence Ave. SW, Washington, DC 20585 or by email at EECBG@hq.doe.gov.

FOR FURTHER INFORMATION CONTACT: Adam Guzzo, Program Manager, Office of State and Community Energy Programs; 1000 Independence Ave. SW, Washington, DC 20585; (202) 258-6766; EECBG@hq.doe.gov.

SUPPLEMENTARY INFORMATION:

Comments are invited on: (a) Whether the extended collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

This information collection request contains:

(1) OMB No.: 1910-5150;

(2) Information Collection Request Titled: Energy Efficiency and Conservation Block Grant Information Collection Request;

(3) Type of Review: Renewal;

(4) Purpose: The information collected is used by DOE program staff to track grant recipients' activities, monitor their progress, and provide oversight for financing program expenditures and the repurposing of funds. The collected information also enables program staff to provide required or requested information on program activities to OMB, Congress, and the public. Likely recipients include the remaining entities maintaining Energy Efficiency and Conservation Block Grants (EECBG) financed under the American Recovery and Reinvestment Act of 2009 (ARRA);

(5) Annual Estimated Number of Respondents: 61;

(6) Annual Estimated Number of Total Responses: 61;

(7) Annual Estimated Number of Burden Hours: 183;

(8) Annual Estimated Reporting and Recordkeeping Cost Burden: $11,009.

Statutory Authority: Energy Independence and Security Act of 2007 (EISA) (Pub. L. 110-140). This collection also meets OMB requirements for: (1) administration of American Recovery and Reinvestment Act of 2009 (ARRA or Recovery Act) (Pub. L. 111-5) Financing programs created as part of the EECBG formula and competitive grants; and (2) ARRA funds.

Signing Authority

This document of the Department of Energy was signed on July 25, 2025, by Eric Mahroum, Director of the Office of State and Community Energy Programs, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on July 25, 2025.
Jennifer Hartzell,
Alternate Federal Register Liaison Officer, U.S. Department of Energy.

[FR Doc. 2025-14305 Filed 7-28-25; 8:45 am]

BILLING CODE 6450-01-P